DEPARTMENT OF ENERGY

Federal Energy Regulatory Commission

[Project No. 13348-000]

Buckeye Water Conservation and Drainage District; Notice of Conduit Exemption Application Accepted for Filing and Soliciting Comment, Motions To Intervene, and Competing Applications

March 4, 2009.

Take notice that the following hydroelectric application has been filed with the Commission and is available for public inspection:

a. Application Type: Application for Exemption for Small Conduit Facility.

b. Project No: 13348-000.

c. Date Filed: December 19, 2008.

d. Applicant: Buckeye Water Conservation and Drainage District.

e. Name of Project: South Extension Canal Project.

f. Location: The project is located near the town of Buckeye in Maricopa County, Arizona.

g. Filed Pursuant to: Federal Power Act, 16 U.S.C. 791a—825r.

h. Applicant Contact: Mr. Ed Gerak, General Manager, Buckeye Water Conservation and Drainage District, P.O. Box 1726, Buckeye, AZ 85326, (623) 386-2196.

i. FERC Contact: Anthony DeLuca, (202) 502-6632

j. Deadline for filing comments, motions to intervene, competing applications (without notices of intent), or notices of intent to file competing applications: 45 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13348) in the docket number field to access the document. For assistance, call toll-free 1-866-208-3372.

k. Description of Request: Buckeye Water Conservation and Drainage District (BWCDD) requests Commission approval for exemption for small conduit hydroelectric facility. This proposal consists of adding a steel tube penstock, one Schneider Linear Hydroengine (SLH), and a draft tube to a recently improved impoundment structure located on a BWCDD canal known as the South Extension Canal (SEC). The canal is operated for the distribution of water for agricultural purposes and there are no consumptive water supply facilities associated with the SEC project. The hydraulic capacity of the plant will be 0.52 cubic meters per second (18.4 cubic feet per second) and SLH will have an estimated average annual generation of 32,000 kWh.

Kimberly D. Bose,
Secretary.

[FR Doc. E9-5251 Filed 3-10-09; 8:45 am]

BILLING CODE 6717-01-P